DEPARTMENT OF HOUSING AND URBAN DEVELOPMENT

[Docket No. FR-5188-N-15]

Notice of Proposed Information Collection: Comment Request, State Community Development Block Grant (CDBG) Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: February 23, 2009.

ADDRESSES: Interested persons are invited to submit comments regarding this proposal. Comments should refer to the proposal by name and/or OMB Control Number and should be sent to:

Lillian L. Deitzer, Reports Management Officer, QDAM, Department of Housing and Urban Development, 451 7th Street, SW., Room 4176, Washington, DC 20410; telephone, 202-402-8048 (this is not a toll-free number), or e-mail Ms. Deitzer at Lillian.L.Deitzer@hud.gov.

FOR FURTHER INFORMATION CONTACT: Eva Fontheim at (202) 402-3461 (this is not a toll free number) for copies of the proposed forms and other available documents.

SUPPLEMENTARY INFORMATION: The Department is submitting the proposed information collection to OMB for review as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: State Community Development Block Grant (CDBG) Program.

OMB Control Number, if applicable: 2506-0085.

Description of the need for the information and proposed use: The Housing and Community Development Act of 1974, as amended, requires grant recipients that receive CDBG funding to retain records necessary to document compliance with statutory and regulatory requirements on an on-going basis. Grantees must also submit an annual performance and evaluation report to demonstrate progress that it has made in carrying out its consolidated plan, and such records as may be necessary to facilitate review and audit by HUD of the grantee's administration of CDBG funds (section 104(e)(1)).

Agency form numbers, if applicable: Not Applicable.

Members of affected public: This information collection applies to all State CDBG Grantees.

Estimation of the total numbers of hours needed to prepare the information collection including number of respondents, frequency of response, and hours of response: The estimated number of respondents is 50. The proposed frequency of the response to the collection of information is annual for reporting and on-going for recordkeeping. Annual reporting and recordkeeping is estimated at 112,100 hours for 50 grant recipients.

Status of the proposed information collection: Extension without change of a currently approved collection, and a request for OMB renewal for three years. The current OMB approval will expire in February, 2009.

Authority: The Paperwork Reduction Act of 1995, 44 U.S.C. Chapter 35, as amended.

Dated: December 16, 2008.
Nelson R. Bregon,
General Deputy Assistant Secretary for Community Planning and Development.

[FR Doc. E8-30605 Filed 12-23-08; 8:45 am]

BILLING CODE 4210-67-P